DEPARTMENT OF HOMELAND SECURITY

Coast Guard

[USCG-2006-25598]

Towing Safety Advisory Committee

AGENCY: Coast Guard, DHS.

ACTION: Notice of meetings.

SUMMARY: The Towing Safety Advisory Committee (TSAC) and its working groups will meet as required to discuss various issues relating to shallow-draft inland and coastal waterway navigation and towing safety. All meetings will be open to the public.

DATES: TSAC will meet on, Thursday, September 21, 2006, from 8 a.m. to 3 p.m. The working groups will meet on Wednesday, September 20, 2006, from 8 a.m. to 3 p.m. These meetings may close early if all business is finished. Written material for and requests to make oral presentations at the meetings should reach the Coast Guard on or before September 11, 2006. Requests to have a copy of your material distributed to each member of the Committee or working groups prior to the meetings should reach the Coast Guard on or before September 11, 2006.

ADDRESSES: TSAC will meet in Salons A & B, Hilton St. Louis Airport; 10330 Natural Bridge Road; St. Louis, MO 63134-3303. Guest rooms may be reserved by calling (800)-HILTONS or (314)-426-5500. In order to obtain the Government Rate, reservations must be made before September 5, 2006. Send written material and requests to make oral presentations to Mr. Gerald P. Miante, Assistant Executive Director, TSAC; U.S. Coast Guard Headquarters, G-PSO-1, Room 1210; 2100 Second Street, SW., Washington, DC 20593-0001. This notice and related documents are available on the Internet at http://dms.dot.gov under the docket number USCG-2006-25598.

FOR FURTHER INFORMATION CONTACT: Mr. Gerald P. Miante, Assistant Executive Director, TSAC; telephone (202) 372-1401, fax (202) 372-1926, or e-mail at: gmiante@comdt.uscg.mil.

SUPPLEMENTARY INFORMATION: Notice of these meetings is given under the Federal Advisory Committee Act, 5 U.S.C. App. 2 (Pub. L. 92-463, 86 Stat. 770, as amended).

Agenda of Committee Meeting

The agenda includes the following items:

(1) Comprehensive Report of the Towing Vessel Inspection Working Group;

(2) Status Report of the Licensing Implementation Working Group: an Approved Model Training Program for Wheelhouse Personnel;

(3) Update from the Working Group on Lessons Learned from the Review of the AV Kastner/Buchanan 14/SWIFT Collision and the MV Wally Roller Incident; and

(4) Discussions on the Transportation Worker Identification Credential (TWIC) and the Merchant Mariner Credential (MMC) Rulemakings.

Procedural

All meetings are open to the public. Please note that the meetings may close early if all business is finished. Members of the public may make oral presentations during the meetings. If you would like to make an oral presentation at a meeting, please notify the Assistant Executive Director no later than September 11, 2006. Written material for distribution at a meeting should reach the Coast Guard no later than September 11, 2006. If you would like a copy of your material distributed to each member of the Committee or Working Groups in advance of a meeting, please submit 20 copies to the Assistant Executive Director no later than September 11, 2006. You may also submit this material electronically to the e-mail address in FOR FURTHER INFORMATION CONTACT, no later than September 11, 2006. Also, at the Chair's discretion, members of the public may present comment at the end of the Public Meeting. Please understand that the Committee's schedule may be quite demanding and time for public comment may be limited.

Information on Services for Individuals With Disabilities

For information on facilities or services for individuals with disabilities or to request special assistance at the meetings, contact the Assistant Executive Director as soon as possible.

Dated: August 11, 2006.
J.G. Lantz,
Director of National and International Standards, Assistant Commandant for Prevention.

[FR Doc. E6-13666 Filed 8-17-06; 8:45 am]

BILLING CODE 4910-15-P